DEPARTMENT OF COMMERCE

National Oceanic and Atmospheric Administration

[I.D. 031102A]

North Pacific Fishery Management Council Public Meeting

AGENCY: National Marine Fisheries Service (NMFS), National Oceanic and Atmospheric Administration (NOAA), Commerce.

ACTION: Notification of public meeting.

SUMMARY: NMFS and the NPFMC will hold a workshop March 25—26, 2002, to discuss effects of fishing on habitat, mitigation tools and fishery descriptions. The NPFMC will hold an essential fish habitat (EFH) committee meeting on March 27, 2002.

DATES: The workshop will be on Monday, March 25, 2002, from 1 p.m. to 5 p.m. and from 8 a.m. to 5 p.m. on Tuesday, March 26, 2002. The EFH committee will meet from 8 a.m. to 5 p.m. on Wednesday, March 27, 2002.

ADDRESSES: The workshop and committee meeting will be in Seattle, WA, in Building 9, at the National Oceanic and Atmospheric Administration, Western Regional Center, 7600 Sand Point Way, N.E.

Questions should be addressed to NMFS, Habitat Conservation Division, ATTN: Cindy Hartmann, 709 West 9th, Suite 801, P.O. Box 21668, Juneau, AK 99802-1668.

FOR FURTHER INFORMATION CONTACT: Cindy Hartmann, NMFS, (907) 586-7585, e-mail: Cindy.Hartmann@noaa.gov; or Cathy Coon, NPFMC, (907) 271-2809, e-mail: Cathy.Coon@noaa.gov. To facilitate security clearance at the NOAA facility the public is requested to contact Cindy by March 22, 2002.

SUPPLEMENTARY INFORMATION:

Background

The focus of the workshop will be a discussion of the effects of fishing on EFH including the following: (1) A discussion of the criteria on what is a minimal and what is a temporary impact on EFH; (2) Review of the scientific studies on gear impacts pertinent to Alaska fisheries; (3) Discussion of a set of tools for mitigating adverse impacts and to what situations they apply; (4) Description of Alaska fisheries. The discussion of criteria for a minimal and temporary impact, review of scientific studies on gear impacts pertinent to Alaska fisheries and an initial discussion of mitigation tools and to what situations they apply is planned for Monday afternoon. On Tuesday, participants will break into four workgroups to revise fishery descriptions, discuss potential adverse effects of their specific fisheries and discuss mitigation tools and their application to their fisheries.

For further information about the EFH supplemental environmental impact statement (SEIS), see the notice of intent to prepare an SEIS published in the Proposed Rules section of the Federal Register (66 FR 30396, June 6, 2001). For further information on the preliminary alternative approaches for the designation of EFH and habitat areas of particular concern (HAPC) see 67 FR 1325, January 10, 2002.

On March 27, 2002, the EFH Committee meets to: review fishery descriptions; discuss potential mitigation tools from each subgroup and any other group products; develop committee recommendations for the April NPFMC meeting; and plan for future EFH Committee tasks and meetings.

The NPFMC EFH committee was formally established by the NPFMC's acting executive director in May 2001. The committee was established in response to the need to prepare an SEIS for the EFH fishery management plan amendments. The function of the committee is to serve as a steering committee in facilitating input to NMFS on the SEIS for EFH submitted by the industry, conservation community, Council, and general public and the involvement of the NPFMC in the SEIS. The Committee will work to provide input as appropriate, and submit periodic updates to the Council on the environmental impact statement for EFH. Further information on the EFH Committee can be found on the NPFMC web site at: http://www.fakr.noaa.gov/npfmc/Committees/EFH/efh.htm.

Although other issues not contained in this agenda may come before the Committee for discussion, those issues may not be the subject of formal action during the meeting. Action will be restricted to those issues specifically identified in this notice.

Special Accommodations

This meeting is physically accessible to people with disabilities. Requests for sign language interpretation or other auxiliary aids should be directed to Cindy Hartmann, (907) 586-7235, at least 5 working days prior to the meeting date.

Dated: March 11, 2002.
Richard W. Surdi,
Acting Director, Office of Sustainable Fisheries, National Marine Fisheries Service.

[FR Doc. 02-6182 Filed 3-14-02; 8:45 am]

BILLING CODE 3510-22-S